DEPARTMENT OF HEALTH AND HUMAN SERVICES

Health Resources and Services Administration

Children's Hospitals Graduate Medical Education (CHGME) Program Conference

AGENCY: Health Resources and Services Administration, HHS.

ACTION: Notice of public hearing.

SUMMARY: This document announces a public hearing to receive information and views on the notice that proposes methodologies and processes for the Children's Hospitals Graduate Medical Education (CHGME) Payment Program, published in the Federal Register (67 FR 60241) on September 25, 2002. The notice proposes methodology for: (1) Determining payments during the CHGME Payment Program's reconciliation process; (2) calculating indirect medical education (IME) payment; (3) disseminating CHGME Payment Program data, and (4) audit. This hearing will brief the public on the above methodologies and processes as well as hear public comments on the above. The public may also participate in the hearing by telephone as described below.

DATES: The public hearing will be held on October 22, 2002, from 2 p.m. to 3:30 p.m. EST.

ADDRESSES: The public hearing will be held in the Division of Medicine and Dentistry Conference Room, Bureau of Health Professions, Health Resources and Services Administration, Parklawn Building, 5600 Fishers Lane, Room 9A-27, Rockville, Maryland 20857.

FOR FURTHER INFORMATION CONTACT: Ayah E. Johnson, Ph.D., telephone: (301) 443-1058; Division of Medicine and Dentistry, Bureau of Health Professions, Health Resources and Services Administration, Parklawn Building, 5600 Fishers Lane, Room 9A-27, Rockville, Maryland 20857; or by e-mail at: ajohnson@hrsa.gov.

SUPPLEMENTARY INFORMATION: The CHGME Payment Program, as authorized by section 340E of the Public Health Service (PHS) Act (the Act) (42 U.S.C. 256e), provides funds to children's hospitals to address disparity in the level of Federal funding for children's hospitals that result from Medicare funding for graduate medical education (GME). Pub. L. 106-310 amended the CHGME statute to extend the program through fiscal year 2005.

The hearing will again provide information on the proposed methodologies and processes contained in the September 25, 2002, CHGME Payment Program notice. The agenda for the hearing will include the following: (1) Methodology for determining payments during the CHGME Payment Program's reconciliation process; (2) calculating IME payment; (3) disseminating CHGME Payment Program data, and (4) audit. This hearing will brief the public on the above methodologies and processes as well as hear comments from the public on the above. Time will also be available for a question and answer period. Information about the Program can be found on the CHGME Payment Program Web site. The Web site address is http://bhpr.hrsa.gov/childrenshospitalgme.

For security reasons, individuals wishing to attend the public hearing at the Parklawn Building must contact the CHGME Payment Program no later than October 17, 2002 to receive security clearance. These individuals should plan to arrive no later than 1:15 PM to accommodate security procedures. Individuals who do not contact the CHGME Payment Program by October 17, 2002 to receive security clearance will not be admitted to the Parklawn Building. In order for individuals to participate by telephone, they must dial: (888) 625-1617 and enter the corresponding pass code 52453. The pass code (52453) and Dr. Ayah Johnson's name, as call leader, are required to join the call. Telephone participants should call no later than 1:45 p.m. for logistical reasons.

In order to facilitate the public hearing, participants are asked to submit their questions in writing to Ayah E. Johnson, Ph.D., Division of Medicine and Dentistry, Bureau of Health Professions, Health Resources and Services Administration, Parklawn Building, 5600 Fishers Lane, Room 9A-27, Rockville, Maryland 20857; or by e-mail at ajohnson@hrsa.gov no later than October 17, 2002.

During the public hearing, individuals are asked to (1) hold their questions until the allotted question-and-answer period; (2) identify themselves and their hospital/organization before each question; and (3) address questions to the Health Resources and Services Administration only. Individuals participating by telephone are also asked to keep their speakerphones on mute unless they are asking a question.

Dated: October 10, 2002.
Elizabeth M. Duke,
Administrator.

[FR Doc. 02-26476 Filed 10-16-02; 8:45 am]

BILLING CODE 4165-15-P